DEPARTMENT OF JUSTICE

Notice of Lodging of First Amendment to Consent Decree Under the Comprehensive Environmental Response, Compensation, and Liability Act

Notice is hereby given that on July 26, 2012, a proposed first amendment to consent decree with Schlumberger Technology Corporation (“Consent Decree Amendment”) in United States vs. Schlumberger Industries, Inc., Civil Action No. 91-cv-04222 was lodged with the United States District Court for the Southern District of Illinois.

In this action, the United States sought injunctive relief and cost recovery claims under the Comprehensive Environmental Response, Compensation, and Liability Act, 42 U.S.C. 9601-9675, against Schlumberger Industries Inc. Schlumberger Technology Corporation (“STC”) was subsequently substituted as Defendant and real party in interest. Under the Consent Decree Amendment, STC will perform the selected remedy under a May 2007 Record of Decision Amendment to address chlorinated volatile organic compound contaminated groundwater for areas known as Plume 1 and Plume 3 at the PCBs Operable Unit of the Crab Orchard National Wildlife Refuge in Williamson, Jackson, Union, and Johnson Counties, Illinois. This work is valued at $6,236,400 and is subject to a cost-sharing agreement between STC and the U.S. Department of the Interior.

The Department of Justice will receive for a period of 30 days from the date of this publication comments relating to the Consent Decree Amendment. Comments should be addressed to the Assistant Attorney General, Environment and Natural Resources Division, and either emailed to pubcomment-ees.enrd@usdoj.gov or mailed to P.O. Box 7611, U.S. Department of Justice, Washington, DC 20044-7611, and should refer to United States v. Schlumberger Industries, Inc., D.J. Ref. 90-11-3-643.

During the public comment period, the Consent Decree Amendment may also be examined on the following Department of Justice Web site, http://www.usdoj.gov/enrd/Consent_Decrees.html. A copy of the Consent Decree Amendment may also be obtained by mail from the Consent Decree Library, P.O. Box 7611, U.S. Department of Justice, Washington, DC 20044-7611 or by faxing or emailing a request to “Consent Decree Copy” (EESCDCopy.ENRD@usdoj.gov,) fax no. (202) 514-0097, phone confirmation number (202) 514-0097. If requesting a copy from the Consent Decree Library by mail, please enclose a check in the amount of $35.00 (25 cents per page reproduction cost) payable to the U.S. Treasury or, if requesting by email or fax, forward a check in that amount to the Consent Decree Library at the address given above. In requesting a copy exclusive of exhibits and defendants' signatures, please enclose a check in the amount of $2.00 (25 cents per page reproduction cost) payable to the U.S. Treasury.

Maureen Katz,
Assistant Chief, Environmental Enforcement Section, Environment and Natural Resources Division.

[FR Doc. 2012-19250 Filed 8-6-12; 8:45 am]

BILLING CODE 4410-15-P